NATIONAL FOUNDATION ON THE ARTS AND THE HUMANITIES

National Endowment for the Humanities

Meeting of National Council on the Humanities

AGENCY: National Endowment for the Humanities, National Foundation on the Arts and the Humanities.

ACTION: Notice of meeting.

SUMMARY: Pursuant to the Federal Advisory Committee Act, notice is hereby given that the National Council on the Humanities will meet to advise the Chairman of the National Endowment for the Humanities (NEH) with respect to policies, programs and procedures for carrying out his functions; to review applications for financial assistance under the National Foundation on the Arts and Humanities Act of 1965 and make recommendations thereon to the Chairman; and to consider gifts offered to NEH and make recommendations thereon to the Chairman.

DATES: The meeting will be held on Thursday, November 17, 2016, from 10:30 a.m. until 12:30 p.m., and Friday, November 18, 2016, from 9:00 a.m. until adjourned.

ADDRESSES: The meeting will be held at Constitution Center, 400 7th Street SW., Washington, DC 20506. See SUPPLEMENTARY INFORMATION section for room numbers.

FOR FURTHER INFORMATION CONTACT: Elizabeth Voyatzis, Committee Management Officer, 400 7th Street SW., 4th Floor, Washington, DC 20506; (202) 606-8322; evoyatzis@neh.gov.

SUPPLEMENTARY INFORMATION: The National Council on the Humanities is meeting pursuant to the National Foundation on the Arts and Humanities Act of 1965 (20 U.S.C. 951-960, as amended). The Committee meetings of the National Council on the Humanities will be held on November 17, 2016, as follows: the policy discussion session (open to the public) will convene at 10:30 a.m. until approximately 11:30 a.m., followed by the discussion of specific grant applications and programs before the Council (closed to the public) from 11:30 a.m. until 12:30 p.m.

Challenge Grants: Room 4089

Education Programs: Conference Room C.

Federal/State Partnership: 2002

Preservation and Access Programs: Room P002.

Public Programs: Room P003

Research Programs/Digital Humanities: Room 4002.

The plenary session of the National Council on the Humanities will convene on November 18, 2016, at 9:00 a.m. in the Conference Center at Constitution Center. The agenda for the morning session (open to the public) will be as follows:

A. Minutes of the Previous Meeting

B. Reports

1. Chairman's Remarks

2. Deputy Chairman's Remarks

3. Conversation with NEH Chairman William D. Adams and Mellon Foundation President Earl Lewis

4. Congressional Affairs Report

5. Budget Report

6. Reports on Policy and General Matters

a. Challenge Grants

b. Education Programs

c. Federal/State Partnership

d. Preservation and Access Programs

e. Public Programs

f. Research Programs

g. Digital Humanities

The remainder of the plenary session will be for consideration of specific applications and therefore will be closed to the public.

As identified above, portions of the meeting of the National Council on the Humanities will be closed to the public pursuant to sections 552b(c)(4), 552b(c)(6) and 552b(c)(9)(b) of Title 5 U.S.C., as amended. The closed sessions will include review of personal and/or proprietary financial and commercial information given in confidence to the agency by grant applicants, and discussion of certain information, the premature disclosure of which could significantly frustrate implementation of proposed agency action. I have made this determination pursuant to the authority granted me by the Chairman's Delegation of Authority to Close Advisory Committee Meetings dated April 15, 2016.

Please note that individuals planning to attend the public sessions of the meeting are subject to security screening procedures. If you wish to attend any of the public sessions, please inform NEH as soon as possible by contacting Ms. Katherine Griffin at (202) 606-8322 or kgriffin@neh.gov. Please also provide advance notice of any special needs or accommodations, including for a sign language interpreter.

Dated: October 19, 2016.
Elizabeth Voyatzis,
Committee Management Officer.

[FR Doc. 2016-25723 Filed 10-24-16; 8:45 am]

BILLING CODE 7536-01-P